DEPARTMENT OF TRANSPORTATION

Federal Aviation Administration

14 CFR Part 39

[Docket No. 2001-NM-53-AD; Amendment 39-12804; AD 2002-14-04]

RIN 2120-AA64

Airworthiness Directives; McDonnell Douglas Model MD-11 and -11F Airplanes

AGENCY: Federal Aviation Administration, DOT.

ACTION: Final rule.

SUMMARY: This amendment adopts a new airworthiness directive (AD), applicable to certain McDonnell Douglas Model MD-11 and -11F airplanes, that requires performing an inspection of the wiring of the Firex bottle discharge cartridge of the No. 2 engine at station Y=2163.00 bulkhead for chafing on adjacent structure and damaged wiring; repairing damaged wires; and repositioning wires, if necessary. This action is necessary to prevent chafing and possible damage to the wiring of the Firex bottle discharge cartridge of the No. 2 engine, which could result in improper distribution of the fire extinguishing agent within the No. 2 engine in the event of a fire. This action is intended to address the identified unsafe condition.

DATES: Effective August 23, 2002.

The incorporation by reference of certain publications listed in the regulations is approved by the Director of the Federal Register as of August 23, 2002.

ADDRESSES: The service information referenced in this AD may be obtained from Boeing Commercial Aircraft Group, Long Beach Division, 3855 Lakewood Boulevard, Long Beach, California 90846, Attention: Data and Service Management, Dept. C1-L5A (D800-0024). This information may be examined at the Federal Aviation Administration (FAA), Transport Airplane Directorate, Rules Docket, 1601 Lind Avenue, SW., Renton, Washington; or at the FAA, Los Angeles Aircraft Certification Office, 3960 Paramount Boulevard, Lakewood, California; or at the Office of the Federal Register, 800 North Capitol Street, NW., suite 700, Washington, DC.

FOR FURTHER INFORMATION CONTACT: Technical Information: Brett Portwood, Aerospace Engineer, Systems and Equipment Branch, ANM-130L, FAA, Los Angeles Aircraft Certification Office, 3960 Paramount Boulevard, Lakewood, California 90712-4137; telephone (562) 627-5350; fax (562) 627-5210.

Other Information: Sandi Carli, Airworthiness Directive Technical Writer/Editor; telephone (425) 687-4243, fax (425) 227-1232. Questions or comments may also be sent via the Internet using the following address: sandi.carli@faa.gov. Questions or comments sent via the Internet as attached electronic files must be formatted in Microsoft Word 97 for Windows or ASCII text.

SUPPLEMENTARY INFORMATION: A proposal to amend part 39 of the Federal Aviation Regulations (14 CFR part 39) to include an airworthiness directive (AD) that is applicable to certain McDonnell Douglas Model MD-11 and -11F airplanes was published in the Federal Register on October 5, 2001 (66 FR 50899). That action proposed to require performing an inspection of the wiring of the Firex bottle discharge cartridge of the No. 2 engine at station Y=2163.00 bulkhead for chafing on adjacent structure and damaged wiring; repairing damaged wires; and repositioning wires, if necessary.

Comments

Interested persons have been afforded an opportunity to participate in the making of this amendment. Due consideration has been given to the comments received.

Request To Withdraw Proposed AD

One commenter requests that the proposed AD be withdrawn, because repetitive maintenance tasks are performed on the fire extinguishers and the condition of the circuit can be inspected easily. Therefore, the proposed AD is unnecessary.

The FAA does not agree. Because airplane maintenance manuals (AMM) are not FAA-approved and the procedures specified in AMMs vary from operator to operator, there are no assurances that each operator's AMM contains the equivalent actions required by this AD. Therefore, no change to this final rule is necessary in this regard.

Request That Credit Be Given for Previous Inspection

One commenter requests that the proposed AD be revised to acknowledge operators that have previously inspected for chafing and damage are exempt from having to reaccomplish the wiring inspection. Under the heading “Difference Between the Service Bulletin and the Proposed AD” in the preamble of the proposed AD, the commenter notes that it states that the referenced service bulletin describes only procedures for an inspection to detect damaged wiring, and that the proposed AD would require that inspection to detect both chafing AND damaged wiring. The commenter states that its Engineering Order Work Instructions state, “If the wiring at Station Y=2163.00 bulkhead is not chafing or damaged, no further action is required.”

The FAA does not consider that a change to the final rule is necessary. Operators are given credit for work previously performed by means of the phrase in the “Compliance” section of the AD that states, “Required as indicated, unless accomplished previously.” Therefore, in the case of this AD, if the required inspection has been accomplished before the effective date of this AD, this AD does not require that it be repeated.

Explanation of Change to AD Applicability

The FAA finds that Model MD-11F airplanes were not specifically identified by model name in the applicability of the proposed AD. However, those airplanes were identified by the manufacturer's fuselage numbers in the effectivity listing of Boeing Service Bulletin MD11-26-037, dated November 8, 2000, which was referenced in the applicability of the proposed AD. Therefore, we have revised this AD to specifically reference Model MD-11 and -11F airplanes where appropriate. In addition, we have revised the applicability of the existing AD to identify model designations as published in the most recent type certificate data sheet for the affected models.

Explanation of Change of Definition

For clarification purposes, the FAA has revised the definition of a “general visual inspection” in Note 2 of this AD.

Conclusion

After careful review of the available data, including the comments noted above, the FAA has determined that air safety and the public interest require the adoption of the rule with the changes previously described. The FAA has determined that these changes will neither increase the economic burden on any operator nor increase the scope of the AD.

Cost Impact

There are approximately 148 Model MD-11 and -11F series airplanes of the affected design in the worldwide fleet. The FAA estimates that 58 airplanes of U.S. registry will be affected by this AD, that it will take approximately 1 work hour per airplane to accomplish the required inspection, and that the average labor rate is $60 per work hour. Based on these figures, the cost impact of the AD on U.S. operators is estimated to be $3,480, or $60 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2002-14-04 McDonnell Douglas: Amendment 39-12804. Docket 2001-NM-53-AD.

Applicability: Model MD-11 and -11F airplanes, as listed in Boeing Service Bulletin MD11-26-037, dated November 8, 2000; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (b) of this AD. The request should include an assessment of the effect of the modification, alteration, or repair on the unsafe condition addressed by this AD; and, if the unsafe condition has not been eliminated, the request should include specific proposed actions to address it.

Compliance: Required as indicated, unless accomplished previously.

To prevent chafing and possible damage to the wiring of the Firex bottle discharge cartridge of the No. 2 engine, which could result in improper distribution of the fire extinguishing agent within the No. 2 engine in the event of a fire, accomplish the following:

General Visual Inspection

(a) Within 15 months after the effective date of this AD, do a general visual inspection of the wiring of the Firex bottle discharge cartridge of the No. 2 engine at station Y=2163.00 bulkhead for chafing on adjacent structure and damaged wiring, per Boeing Service Bulletin MD11-26-037, dated November 8, 2000.

Note 2: For the purposes of this AD, a general visual inspection is defined as: “A visual examination of an interior or exterior area, installation, or assembly to detect obvious damage, failure, or irregularity. This level of inspection is made from within touching distance unless otherwise specified. A mirror may be necessary to enhance visual access to all exposed surfaces in the inspection area. This level of inspection is made under normally available lighting conditions such as daylight, hangar lighting, flashlight, or droplight and may require removal or opening of access panels or doors. Stands, ladders, or platforms may be required to gain proximity to the area being checked.”

Note 3: Where there are differences between the referenced service bulletin and the AD, the AD prevails.

Condition 1 (No Chafing or Damaged Wiring)

(1) If no chafing or damaged wiring is detected, no further action is required by this AD.

Condition 2 (Chafing with No Damaged Wiring)

(2) If any chafing with no damaged wiring is detected, before further flight, reposition wires, per the service bulletin.

Condition 3 (Chafing with Damaged Wiring)

(3) If any chafing with damaged wiring is detected, before further flight, repair damaged wires and reposition wires, per the service bulletin.

Alternative Methods of Compliance

(b) An alternative method of compliance or adjustment of the compliance time that provides an acceptable level of safety may be used if approved by the Manager, Los Angeles Aircraft Certification Office (ACO), FAA. Operators shall submit their requests through an appropriate FAA Principal Maintenance Inspector, who may add comments and then send it to the Manager, Los Angeles ACO.

Note 4: Information concerning the existence of approved alternative methods of compliance with this AD, if any, may be obtained from the Los Angeles ACO.

Special Flight Permits

(c) Special flight permits may be issued in accordance with sections 21.197 and 21.199 of the Federal Aviation Regulations (14 CFR 21.197 and 21.199) to operate the airplane to a location where the requirements of this AD can be accomplished.

Incorporation by Reference

(d) The actions shall be done in accordance with Boeing Service Bulletin MD11-26-037, dated November 8, 2000. This incorporation by reference was approved by the Director of the Federal Register in accordance with 5 U.S.C. 552(a) and 1 CFR part 51. Copies may be obtained from Boeing Commercial Aircraft Group, Long Beach Division, 3855 Lakewood Boulevard, Long Beach, California 90846, Attention: Data and Service Management, Dept. C1-L5A (D800-0024). Copies may be inspected at the FAA, Transport Airplane Directorate, 1601 Lind Avenue, SW., Renton, Washington; or at the FAA, Los Angeles Aircraft Certification Office, 3960 Paramount Boulevard, Lakewood, California; or at the Office of the Federal Register, 800 North Capitol Street, NW., suite 700, Washington, DC.

Effective Date

(e) This amendment becomes effective on August 23, 2002.

Issued in Renton, Washington, on July 2, 2002.
Jeffrey E. Duven,
Acting Manager, Transport Airplane Directorate, Aircraft Certification Service.

[FR Doc. 02-17526 Filed 7-18-02; 8:45 am]

BILLING CODE 4910-13-P